DEPARTMENT OF COMMERCE

National Oceanic and Atmospheric Administration

[RTID 0648-XB806]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day hybrid meeting for both in-person and virtual participation of its Standing, Reef Fish, Socioeconomic, and Ecosystem Scientific and Statistical Committees (SSC).

DATES: The meeting will take place Tuesday, March 8, 2022 to Thursday, March 10, 2022, from 9 a.m. to 5:30 p.m., EST daily.

ADDRESSES: Those who prefer to attend the meeting in-person may do so at the Gulf Council office. If you are unable or do not wish to travel, you may participate in the meeting via webinar. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, March 8, 2022; 9 a.m.-5:30 p.m., EST

The meeting will begin with Introductions and Adoption of Agenda, Approval of Verbatim Minutes and Meeting Summary from the January 11-13, 2022, meeting, and review of Scope of Work. The Committees will select an SSC Representative for the April 4-7, 2022, Gulf Council Meeting. Following, Committees will review the Estimating Absolute Abundance of Red Snapper off Louisiana; discuss the Results of Post-stratification Analysis by Southeast Fisheries Science Center (SEFSC), Florida Fish and Wildlife Conservation Commission (FWC), and Great Red Snapper Count (GRSC) Teams for Florida Absolute Abundance Data; review the Gulf of Mexico Red Grouper Interim Analysis; and review the Terms of Reference for the Southeast Data, Assessment, and Review (SEDAR) 64: Southeastern U.S. Yellowtail Snapper Update Assessment, and the SEDAR 85: Gulf of Mexico Yellowedge Grouper Operational Assessment. Public comment will be heard at the end of the day.

Wednesday, March 9, 2022; 9 a.m.-5:30 p.m., EST

The Committees will review the Characterizing Fleet Behavior Using Analysis of Vessel Monitoring Service Data; review and discuss the National Academies of Report on the Impacts of Limited Access Privilege Programs in Mixed-use Fisheries; and evaluate the Updated SEFSC Catch Analysis for Gulf of Mexico Red Snapper using the Great Red Snapper Count. Public comment will be heard at the end of the day.

Thursday, March 10, 2022; 9 a.m.-5:30 p.m., EST

The Committees will continue evaluating the Updated SEFSC Catch Analysis for Gulf of Mexico Red Snapper using the Great Red Snapper Count, followed by a review of an Update on the Development of Brown and White Shrimp Empirical Dynamic Models. Lastly, the Committees will receive public comment before addressing any items under Other Business.

Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: February 9, 2022.
Tracey L. Thompson,
Acting Deputy Director, Office of Sustainable Fisheries, National Marine Fisheries Service.

[FR Doc. 2022-03103 Filed 2-11-22; 8:45 am]

BILLING CODE 3510-22-P